NATIONAL CREDIT UNION ADMINISTRATION

Sunshine Act; Notice of Meeting

Time and Date: 10 a.m., Thursday, June 22, 2006.

Place: Board Room, 7th Floor, Room 7047, 1775 Duke Street, Alexandria, VA 22314-3428.

Status: Open.

Matters to be Considered: 1. Proposed Rule: Part 708a of NCUA's Rules and Regulations, Conversion of Insured Credit Unions to Mutual Savings Banks.

2. Proposed Rule: Section 748.1(c) of NCUA's Rules and Regulations, Suspicious Activity Reports.

3. Proposed Rule: Part 740 of NCUA's Rules and Regulations, Accuracy of Advertising and Notice of Insured Status.

4. Final Rule: Section 701.21(h) of NCUA's Rules and Regulations, Third-Party Servicing of Indirect Vehicle Loans.

5. Final Rule: Interpretive Ruling and Policy Statement (IRPS) 06-1, Section 701.1 of NCUA's Rules and Regulations, Amendments to NCUA's Chartering and Field of Membership Policies.

Recess: 11:15 a.m.

Time and Date: 11:30 a.m., Thursday, June 22, 2006.

Place: Board Room, 7th Floor, Room 7047, 1775 Duke Street, Alexandria, VA 22314-3428.

Status: Closed.

Matters to be Considered: 1. Part 703 of NCUA's Rules and Regulations, Pilot Program Request. Closed pursuant to Exemption (4).

FOR FURTHER INFORMATION CONTACT: Mary Rupp, Secretary of the Board, Telephone: 703-518-6304.

Mary Rupp,
Secretary of the Board.

[FR Doc. 06-5540 Filed 6-15-06; 3:11 pm]

BILLING CODE 7535-01-M